DEPARTMENT OF JUSTICE

Antitrust Division

Notice Pursuant to the National Cooperative Research and Production Act of 1993—The Open Group, L.L.C.

Notice is hereby given that, on November 4, 2024, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Aeronix Technologies Group, LLC, Melbourne, FL; Afuzion Incorporated, Sedona, AZ; Banco de los Trabajadores, Guatemala City, GUATEMALA; Barkman Enterprises, Inc., Fayetteville, GA; Booz Allen Hamilton, Linthicum, MD; Clarity Cyber, LLC, Linthicum, MD; Corning Optical Communications, Rf LLC, Glendale, AZ; D&I Associates Limited, Kingston Upon Thames, UNITED KINGDOM; GIRD Systems, Inc., Cincinnati, OH; HCL America Inc., Santa Clara, CA; Horizon56 A/S, Kongens Lyngby, DENMARK; Impac Exploration Services Inc, Weatherford, OK; NABORS Industries, Inc., Houston, TX; NETGEOMETRY SDN. BHD., Selangor, MALAYSIA; Picogrid, Inc., El Segundo, CA; Precise Systems, Lexington Park, MD; R V College of Engineering, Bengaluru, INDIA; Reflex Instruments Asia, Pacific Pty Ltd, Balcatta, AUSTRALIA; ReStream Solutions, Inc., Fort Worth, TX; Space Micro, Inc., San Diego, CA; StarAgile Consulting Private Limited, Bengaluru, INDIA; Systematic, Inc., Centreville, VA; Technology Advanced Group, Inc., Ashburn, VA; Torque Technical Computer Training (Pty) Ltd, Johannesburg, SOUTH AFRICA; Trigon Cyber, Inc., Huntsville, AL; V2X, Inc., McLean, VA; and Validere Technologies, Inc. Toronto, CANADA, have been added as parties to this venture.

Also, Ball Aerospace, Boulder, CO; Boomi, Chesterbrook, PA; ClearBlade, Inc., Austin, TX; Cloudwick Technologies, Inc., Newark, CA; CS Communication & Systems, Inc., East Hartford, CT; Delta Information Systems, Horsham, PA; Dunstan Thomas Consulting, Ltd., Portsmouth, UNITED KINGDOM; Eturnti Business Design, Bangalore, INDIA; Growth Continue Training, Abidjan, REPUBLIC OF CÔTE D'IVOIRE; Herley Industries, Inc., Lancaster, PA; Hiller Measurements, Inc., Austin, TX; Information Services Group, Inc., Stamford, CT; INPEX Corporation, Tokyo, JAPAN; Institute for Development and Research in Banking Technology (IDRBT), Hyderabad, INDIA; Kansas Geological Survey, Lawrence, KS; Kyoto University, Kyoto, JAPAN; Naonworks Co. Ltd., Seoul, REPUBLIC OF KOREA; National Institute for Smart Government, Hyderabad, INDIA; Numberline Security, LLC, Lexington, MA; Pro Well Plan as, Bergen, NORWAY; Project Canary, PBC, Denver, CO; Rogerson Kratos, Irvine, CA; Saison Information Systems Co., Ltd., Tokyo, JAPAN; Selman & Associates, Ltd., Midland, TX; Teradata Corporation, London, UNITED KINGDOM; The UK Offshore Energies Association Limited, London, UNITED KINGDOM; Two Ravens Consulting, Calgary, CANADA; University of Dayton Research Institute, Dayton, OH; University of Ottawa, Ottawa, CANADA; Valmet Automation Oy, Vespoo, REPUBLIC OF FINLAND; Ventum Consulting Foshan Ltd, Beijing, PEOPLE'S REPUBLIC OF CHINA; and W-IE-NE-R Power Electronics Corp., Springfield, OH, have withdrawn as parties to this venture.

Additionally, Software AG has changed its name to Software GmbH, Darmstad, GERMANY.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on August 21, 2024. A notice was published in the Federal Register pursuant to section 6(b) of the Act on October 11, 2024 (89 FR 82633).

Suzanne Morris,
Deputy Director Civil Enforcement Operations, Antitrust Division.

[FR Doc. 2025-01727 Filed 1-24-25; 8:45 am]

BILLING CODE P